ENVIRONMENTAL PROTECTION AGENCY

[FRL-7996-5]

Science Advisory Board Staff Office; Clean Air Scientific Advisory Committee (CASAC); Notification of Advisory Committee Meeting of the CASAC Ozone Review Panel

AGENCY: Environmental Protection Agency (EPA).

ACTION: Notice.

SUMMARY: The Environmental Protection Agency (EPA) Science Advisory Board (SAB) Staff Office announces a public meeting of the Clean Air Scientific Advisory Committee's (CASAC) Ozone Review Panel (Panel) to conduct a peer review of the Air Quality Criteria for Ozone and Related Photochemical Oxidants (Second External Review Draft), Volumes I, II, and III (second draft Ozone AQCD, August 2005); and a consultation on the Review of the National Ambient Air Quality Standards for Ozone: Policy Assessment of Scientific and Technical Information (first draft Ozone Staff Paper, November 2005) and two related draft technical support documents, Ozone Health Risk Assessment for Selected Urban Areas: First Draft Report (first draft Ozone Risk Assessment, November 2005) and Ozone Population Exposure Analysis for Selected Urban Areas: Draft Report (first draft Ozone Exposure Assessment, October 2005).

DATES: The meeting will be held from 9 a.m. (eastern time) on Tuesday, December 6, 2005, through 3 p.m. (eastern time) on Thursday, December 8, 2005.

Location: The meeting will take place at the Hilton Durham near Duke University, 3800 Hillsborough Road, Durham, NC 27705, Phone: (919) 383-8033.

FOR FURTHER INFORMATION CONTACT: Any member of the public who would like to submit written or brief oral comments; or wants further information concerning this meeting, should contact Mr. Fred Butterfield, Designated Federal Officer (DFO), EPA Science Advisory Board (1400F), U.S. Environmental Protection Agency, 1200 Pennsylvania Avenue, NW., Washington, DC 20460; via telephone/voice mail: (202) 343-9994; fax: (202) 233-0643; or e-mail at: butterfield.fred@epa.gov. General information concerning the CASAC or the EPA SAB can be found on the EPA Web site at: http://www.epa.gov/sab.

SUPPLEMENTARY INFORMATION:

Background: Section 109(d)(1) of the Clean Air Act (CAA or Act) requires that EPA periodically review and revise, as appropriate, the air quality criteria and the national ambient air quality standards (NAAQS) for the six “criteria” air pollutants, including ambient ozone. EPA is in the process of updating, and revising where appropriate, the air quality criteria document (AQCD) for ozone and related photochemical oxidants published in 1996. Under CAA sections 108 and 109, the purpose of the revised Ozone AQCD is to provide an assessment of the latest scientific information on the effects of ambient ozone on the public health and welfare, for use in EPA's current review of the NAAQS for ozone. In January 2005, EPA's National Center for Environmental Assessment, Research Triangle Park, NC (NCEA-RTP), within the Agency's Office of Research and Development (ORD), made available for public review and comment a First External Review Draft of a revised document, Air Quality Criteria for Ozone and Related Photochemical Oxidants (First External Review Draft), Volumes I, II, and III, (EPA/600/R-05/004aA, bA, and cA, first draft Ozone AQCD, January 2005). Detailed summary information on EPA's first draft Ozone AQCD is contained in a previous EPA Federal Register notice (70 FR 4850, January 31, 2005).

EPA is soliciting advice and recommendations from the CASAC by means of a peer review of the second draft Ozone AQCD. The CASAC, which is comprised of seven members appointed by the EPA Administrator, was established under section 109(d)(2) of the CAA (42 U.S.C. 7409) as an independent scientific advisory committee, in part to provide advice, information and recommendations on the scientific and technical aspects of issues related to air quality criteria and NAAQS under sections 108 and 109 of the Act. The CASAC is a Federal advisory committee chartered under the Federal Advisory Committee Act (FACA), as amended, 5 U.S.C., App. The CASAC Ozone Review Panel complies with the provisions of FACA and all appropriate SAB Staff Office procedural policies. This meeting is a continuation of the CASAC Ozone Review Panel's peer review of the current draft Ozone AQCD. The Panel met in a public meeting on May 4-5, 2005 to conduct its initial peer review of the first draft Ozone AQCD. The report from that meeting, dated June 22, 2005, is posted on the SAB Web site at: http://www.epa.gov/sab/pdf/casac_ozone_casac-05-010.pdf.

In addition, pursuant to sections 108 and 109 of the CAA, EPA is in the process of reviewing the ozone NAAQS, which the Agency most recently revised in July 1997. EPA's Office of Air Quality Planning and Standards (OAQPS), within the Office of Air and Radiation (OAR), has developed a draft updated Staff Paper for ambient ozone as part of its review of the ozone NAAQS. This draft Ozone Staff Paper evaluates the policy implications of the key scientific and technical information contained in the current draft Ozone AQCD and identifies critical elements that EPA believes should be considered in its review of the ozone NAAQS. The Ozone Staff Paper is intended to “bridge the gap” between the scientific review contained in the Ozone AQCD and the public health and welfare policy judgments required of the EPA Administrator in reviewing the ozone NAAQS. EPA is soliciting early advice and recommendations from the CASAC by means of a consultation on the first draft Ozone Staff Paper and the first drafts of the Ozone Exposure Analysis and Risk Assessment.

Technical Contact: Any questions concerning the second draft Ozone AQCD should be directed to Dr. Lori White, NCEA-RTP, at phone: (919) 541-3146, or e-mail: white.lori@epa.gov. Any questions concerning the first draft Ozone Staff Paper and the first drafts Ozone Exposure Analysis and Risk Assessment should be directed to Dr. Dave McKee, OAQPS, at phone: (919) 541-5288, or e-mail: mckee.dave@epa.gov.

Availability of Meeting Materials: The second draft Ozone AQCD (EPA 600/R-05/004aB, bB, and cB, August 2005) can be accessed via the Agency's NCEA Web site at: http://cfpub.epa.gov/ncea/cfm/recordisplay.cfm?deid=137307. The first draft Ozone Staff Paper, the first drafts of the Ozone Exposure Analysis and Risk Assessment, and additional staff technical support memos referenced in the draft Ozone Staff Paper can be accessed via the Agency's Technology Transfer Network (TTN) Web site at: http://www.epa.gov/ttn/naaqs/standards/ozone/s_o3_index.html in the “Documents for Current Review” section under “Staff Papers” and “Technical Documents,” respectively. In addition, a copy of the draft agenda for this meeting will be posted on the SAB Web site at: http://www.epa.gov/sab (under the “Agendas” subheading) in advance of this CASAC Ozone Review Panel meeting. Other meeting materials, including the charge to the CASAC Ozone Review Panel, will be posted on the SAB Web site at: http://www.epa.gov/sab/panels/casacorpanel.html prior to this meeting.

Procedures for Providing Public Comment: The SAB Staff Office accepts written public comments of any length, and will accommodate oral public comments whenever possible. The SAB Staff Office expects that the public will not repeat previously-submitted oral or written statements. Oral Comments: Requests to provide oral comments must be in writing (e-mail, fax or regular mail) and received by Mr. Butterfield no later than November 29, 2005 to reserve time on the meeting agenda. Opportunities for oral comments will be limited to five minutes per speaker. Written Comments: Written comments should be received in the SAB Staff Office by December 1, 2005 so that these comments may be made available to the members of the CASAC Ozone Review Panel for their consideration. Comments should be supplied to Mr. Butterfield at the contact information provided above, in the following formats: one hard copy (original signature optional), or one electronic copy via e-mail (acceptable file format: Adobe PDF, WordPerfect, MS Word, or Rich Text files (in IBM-PC/Windows 98/2000/XP format)).

Accessibility: For information on access or services for individuals with disabilities, please contact Mr. Butterfield at the phone number or e-mail address noted above, preferably at least ten days prior to the meeting, to give EPA as much time as possible to process your request.

Dated: November 8, 2005.
Anthony F. Maciorowski,
Associate Director for Science, EPA Science Advisory Board Staff Office.

[FR Doc. 05-22612 Filed 11-14-05; 8:45 am]

BILLING CODE 6560-50-P